DEPARTMENT OF ENERGY

Federal Energy Regulatory Commission

[Project No. 925-010]

City of Ottumwa, IA; Notice of Application Accepted for Filing and Soliciting Motions To Intervene and Protests

August 3, 2006.

Take notice that the following hydroelectric application has been filed with the Commission and is available for public inspection.

a. Type of Application: New License.

b. Project No.: P-925-010.

c. Date Filed: April 26, 2006.

d. Applicant: City of Ottumwa, Iowa.

e. Name of Project: Ottumwa Hydroelectric Project.

f. Location: On the Des Moines River in the City of Ottumwa, Wapello County, Iowa. The project does not occupy Federal lands.

g. Filed Pursuant to: Federal Power Act 16 U.S.C. 791(a)-825(r).

h. Applicant Contact: Richard Wilcox, Ottumwa Water and Hydro, 230 Turner Drive, Ottumwa, Iowa 52501, (641) 684-4606.

i. FERC Contact: Tim Konnert, (202) 502-6359 or timothy.konnert@ferc.gov.

j. Deadline for filing motions to intervene and protests: October 2, 2006.

All documents (original and eight copies) should be filed with: Magalie R. Salas, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See CFR 385.2001 (a) (1) (iii) and the instructions on the Commission's Web site (http://www.ferc.gov) under the “eFiling” link.

k. This application has been accepted, but is not ready for environmental analysis at this time.

l. The existing Ottumwa Project consists of: (1) An 18-foot-high dam with a 641-foot-long spillway section equipped with eight tainter gates and one bascule gate; (2) a powerhouse integral to the dam containing three generating units, unit 1 and unit 3 each rated at 1,000 kW and unit 2 rated at 1,250 kW; (3) a 125-acre reservoir with a normal water surface elevation of 638.5 feet msl; and (4) appurtenant facilities. The applicant estimates that the average annual generation would be 10,261,920 kilowatt hours using the three generating units with a combined capacity of 3,250 kW.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h. above.

You may also register online at http://www.ferc.gov/esubscribenow.htm to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE”; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in the EA. Staff intends to give at least 30 days for entities to comment on the EA before final action is taken on the license application.

Issue Scoping Document for Comments: August 2006.

Notice of application ready for environmental analysis: November 2006.

Notice of the availability of the EA: March 2007.

Ready for Commission's decision on the Application: May 2007.

Final amendments to the application must be filed with the Commission no later than 30 days from the issuance date of the notice of ready for environmental analysis.

Magalie R. Salas,
Secretary.

[FR Doc. E6-13060 Filed 8-9-06; 8:45 am]

BILLING CODE 6717-01-P